DEPARTMENT OF ENERGY

Submission for OMB Review; Comment Request

AGENCY: Department of Energy.

ACTION: Notice and request for comments.

SUMMARY: The Department of Energy (DOE) has submitted the proposed collection of information described in this notice to the Office of Management and Budget (OMB) for review and approval in accordance with the Paperwork Reduction Act of 1995 (44 U.S.C. 3501 et seq.). The proposed collection of information would implement a statutory requirement that Technology Transfer Ombudsmen report quarterly on complaints they receive.

DATES: Comments regarding this collection of information should be received by July 11, 2002.

ADDRESSES: Written comments may be submitted to: Office of Management and Budget, Office of Information and Regulatory Affairs, Attn: OMB Desk Officer for DOE, Room 10202, New Executive Office Building, 725 17th Street, NW., Washington, DC 20503. A copy of the comments also should be sent to: Susan L. Frey, Director, Records Management Division (IM-11), Office of Records and Business Management, Office of the Chief Information Officer, U.S. Department of Energy, Germantown, Maryland 20874-1290.

SUPPLEMENTARY INFORMATION: DOE proposed the following collection of information on March 25, 2002 (67 FR 13614); no public comments were received:

(1) OMB No.: New; (2) Collection Title: Technology Partnerships Ombudsmen Reporting Requirements; (3) Type of Review: New collection; (4) Purpose: This collection of information would implement a provision in the Technology Commercialization Act of 2000 (Pub. L. 106-404) that requires Technology Transfer Ombudsmen appointed by DOE national laboratories to report quarterly on the number and nature of complaints and disputes received and the Ombudsman's assessment of their resolution; (5) Estimated Number of Respondents: 24 Technology Transfer Ombudsmen; (6) Estimated Number of Burden Hours: 100 (Quarterly times 24 respondents).

Request for Comments: OMB is particularly interested in comments which address: (1) Whether the proposed collection of information is necessary; (2) the accuracy of DOE's estimate of the burden of the proposed information collection; (3) ways to enhance the quality, utility, and clarity of the information to be collected; and (4) ways to minimize the burden of the collection of information on those who choose to respond.

Statutory Authority: 44 U.S.C. 3507(a)(1).

Susan L. Frey,
Director, Records Management Division, Office of Records and Business Management, Office of the Chief Information Officer, Department of Energy.

[FR Doc. 02-14610 Filed 6-10-02; 8:45 am]

BILLING CODE 6450-01-P